DEPARTMENT OF HOMELAND SECURITY

Coast Guard

46 CFR Part 188

Harmonization With International Safety Standards

CFR Correction

In Title 46 of the Code of Federal Regulations, Parts 166 to 199, revised as of October 1, 2002, in part 188, on page 342, remove the second § 188.10-45.

[FR Doc. 03-55516 Filed 8-1-03; 8:45 am]

BILLING CODE 1505-01-D